ENVIRONMENTAL PROTECTION AGENCY

[FRL-7109-5]

Proposed Settlement Agreement

AGENCY: Environmental Protection Agency (EPA).

ACTION: Notice of proposed settlement agreement; request for public comment.

SUMMARY: In accordance with section 113(g) of the Clean Air Act, as amended, 42 U.S.C. 7413(g), notice is hereby given of a proposed settlement agreement in Pharmaceutical Research and Manufacturers of America v. United States Environmental Protection Agency, No. 99-1537 (D.C. Circuit). This case concerns the National Emission Standard for Hazardous Air Pollutants (“NESHAP”) for Publicly Owned Treatment Works (“POTW”), 40 CFR subpart VVV. The proposed settlement agreement was lodged with the United States Court of Appeals for the District of Columbia Circuit on November 16, 2001.

DATES: Written comments on the proposed settlement agreements must be received by December 28, 2001.

ADDRESSES: Written comments should be sent to Timothy D. Backstrom, Air and Radiation Law Office (2344A), Office of General Counsel, U.S. Environmental Protection Agency, 1200 Pennsylvania Avenue, NW., Washington, DC 20460. A copy of the proposed settlement agreement is available from Phyllis J. Cochran, (202) 564-5566. A copy of the proposed settlement agreement was also lodged in the case with the Clerk of the United States Court of Appeals for the District of Columbia Circuit on November 16, 2001.

SUPPLEMENTARY INFORMATION: EPA promulgated the National Emission Standard for Hazardous Air Pollutants (“NESHAP”) for Publicly Owned Treatment Works (“POTW”), 40 CFR subpart VVV, on October 26, 1999, 64 FR 57579. Pharmaceutical Research and Manufacturers of America (“PhRMA”) then petitioned for judicial review of this standard in the DC Court of Appeals.

The POTW MACT standard included separate maximum available control technology (“MACT”) requirements for “industrial POTWs,” which accept wastewater for treatment from sources like the pharmaceutical manufacturers who are subject to other MACT standards. The POTW standard also included a provision stating that industrial POTWs which accept wastewater from major sources for treatment are also considered to be major sources, which was intended to assure that such POTWs would be subject to direct enforcement. PhRMA challenged this provision based on concern that POTWs which thereby become major sources could be subject to additional requirements like permitting and might therefore decline to accept wastewater from PhRMA members.

The settlement agreement addresses the PhRMA concerns by proposing to rescind the applicability provision that classifies industrial POTWs which accept wastewater from major sources as major sources. The original objective of assuring that MACT requirements will be directly enforceable for industrial POTWs will be achieved instead by extending MACT requirements for industrial POTWs to area sources. These area sources are among those already listed for regulation under the urban toxic strategy required by CAA section 112(k)(3). EPA will also propose to exempt industrial POTW treatment plants which are area sources of HAP from the permit requirements in Clean Air Act section 502(a), because all applicable wastewater treatment requirements will be otherwise determined in the permit issued to the discharger.

For a period of thirty (30) days following the date of publication of this notice, EPA will receive written comments relating to the proposed settlement agreements from persons who were not named as parties or interveners to the litigation in question. EPA or the Department of Justice may withdraw or withhold consent to the proposed consent decree if the comments disclose facts or considerations that indicate that such consent is inappropriate, improper, inadequate, or inconsistent with the requirements of the Act. Unless EPA or the Department of Justice determine, following the comment period, that consent is inappropriate, the settlement agreement will then be executed by the parties.

Dated: November 20, 2001.
Alan W. Eckert,
Associate General Counsel, Air and Radiation Law Office.

[FR Doc. 01-29554 Filed 11-27-01; 8:45 am]

BILLING CODE 6560-50-P